Executive Order 13916 of April 18, 2020

National Emergency Authority To Temporarily Extend Deadlines for Certain Estimated Payments

By the authority vested in me as President by the Constitution and the laws of the United States of America, including the National Emergencies Act (50 U.S.C. 1601 et seq.), and in furtherance of Proclamation 9994 of March 13, 2020 (Declaring a National Emergency Concerning the Novel Coronavirus Disease (COVID-19) Outbreak), which declared a national emergency by reason of the threat that the novel (new) coronavirus known as SARS-CoV-2 poses to our Nation's healthcare systems, I hereby order as follows:

Section 1. Emergency Authority. (a) To provide additional authority to the Secretary of the Treasury (Secretary) to respond to the national emergency declared by Proclamation 9994, the authority at section 1318(a) of title 19, United States Code, to extend during the continuance of such emergency the time prescribed therein for the performance of any act is invoked and made available, according to its terms, to the Secretary.

(b) The Secretary shall consider taking appropriate action under section 1318(a) of title 19, United States Code, to temporarily extend deadlines, for importers suffering significant financial hardship because of COVID-19, for the estimated payments described therein, other than those assessed pursuant to sections 1671, 1673, 1862, 2251, and 2411 of title 19, United States Code.

(c) The Secretary shall consult with the Secretary of Homeland Security or his designee before exercising, as invoked and made available under this order, any of the authority set forth in section 1318(a) of title 19, United States Code.

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 18, 2020.

[FR Doc. 2020-08846

Filed 4-22-20; 11:15 am]

Billing code 3295-F0-P